ENVIRONMENTAL PROTECTION AGENCY

[ER-FRL-9020-9]

Environmental Impact Statements; Notice of Availability

Responsible Agency: Office of Federal Activities, General Information (202) 564-7146 or http://www.epa.gov/compliance/nepa/.

Weekly receipt of Environmental Impact Statements

Filed 05/04/2015 through 05/08/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150126, Final, NRC, OH, Generic-License Renewal of Nuclear Plants Regarding Davis-Besse Nuclear Power Station, Review Period Ends: 06/15/2015, Contact: Elaine Keegan 301-415-8517.

EIS No. 20150127, Draft, FHWA, LA, US 61 to I-10, Saint John the Baptist Parish, Reserve to I-10 Connector, Comment Period Ends: 07/01/2015, Contact: Carl M. Highsmith 225-757-7615.

EIS No. 20150128, Draft, USFWS, CO, Rocky Mountain Arsenal National Wildlife Refuge Draft Comprehensive Conservation Plan, Comment Period Ends: 06/29/2015, Contact: Bernardo Garza (303) 236-4377.

EIS No. 20150129, Draft, BIA, NV, Aiya Solar Project, Comment Period Ends: 06/29/2015, Contact: Chip Lewis 602-379-6782.

EIS No. 20150130, Final, BR, WA, Cle Elum Pool Raise Project—A Component of the Yakima River Basin Integrated Water Resource Management Plan, Review Period Ends: 06/15/2015, Contact: Candace McKinley 509-575-5848 ext. 232.

Amended Notices

EIS No. 20150123, Draft, NPS, ID, City of Rocks National Reserve Draft General Management Plan, Comment Period Ends: 07/07/2015, Contact: Wallace Keck 208-824-5911. Revision to FR Notice Published 05/08/2015; Correction to Comment Period to End 07/07/2015.

EIS No. 20150088, Draft, USMC, 00, Commonwealth of the Northern Mariana Islands (CJMT) Joint Military Training, Comment Period Ends: 08/03/2015, Contact: Lori Robertson 808-472-1409. Revision to FR Notice Published 04/03/2015; Extending Comment Period from 06/02/2015 to 08/03/2015.

Dated: May 13, 2015.
Dawn Roberts,
Management Analyst, NEPA Compliance Division, Office of Federal Activities.

[FR Doc. 2015-11948 Filed 5-14-15; 8:45 am]

BILLING CODE 6560-50-P